SECURITIES AND EXCHANGE COMMISSION

Sunshine Act Meetings

FEDERAL REGISTER CITATION OF PREVIOUS ANNOUNCEMENT: 83 Federal Register 29838, 26 June 2018.

PREVIOUSLY ANNOUNCED TIME AND DATE OF THE MEETING: Thursday, June 28, 2018 at 2:00 p.m.

CHANGES IN THE MEETING: The following item will not be considered during the Closed Meeting on Thursday, June 28, 2018:

• Report on an investigation.

CONTACT PERSON FOR MORE INFORMATION: For further information and to ascertain what, if any, matters have been added, deleted or postponed, please contact the Office of the Secretary at (202) 551-5400.

Dated: June 28, 2018.
Brent J. Fields,
Secretary.

[FR Doc. 2018-14281 Filed 6-28-18; 4:15 pm]

BILLING CODE 8011-01-P